DEPARTMENT OF TRANSPORTATION

Federal Motor Carrier Safety Administration

[FMCSA Docket No. FMCSA-2006-25756]

Commercial Driver's License (CDL) Standards; Volvo Trucks North America, Renewal of Exemption

AGENCY: Federal Motor Carrier Safety Administration (FMCSA), DOT.

ACTION: Notice of renewal of exemption; request for comments.

SUMMARY: FMCSA renews Volvo Trucks North America's (Volvo) exemption from the Agency's requirement for certain drivers of commercial motor vehicles (CMVs) to hold a commercial driver's license (CDL). Volvo requested that its exemption for five Swedish engineers and technicians be renewed to enable these individuals to continue test-driving CMVs in the United States for Volvo. Each of these individuals holds a valid Swedish CDL. FMCSA believes the training program and knowledge and skills testing that drivers must undergo to obtain a Swedish CDL ensure a level of safety equivalent to, or greater than, the level of safety that would be obtained by complying with the U.S. requirement for a CDL.

DATES: Comments must be received on or before July 14, 2010.

ADDRESSES: You may submit comments identified by Federal Docket Management System Number FMCSA-2006-25756 by any of the following methods:

• Federal eRulemaking Portal: Go to http://www.regulations.gov. In the ENTER KEYWORD OR ID box enter FMCSA-2006-25756 and click on the tab labeled SEARCH. On the ensuing page, click on any tab labeled SUBMIT A COMMENT on the extreme right of the page and a page should open that is titled “Submit a Comment.” You may identify yourself under section 1, ENTER INFORMATION, or you may skip section 1 and remain anonymous. You enter your comments in section 2, TYPE COMMENT & UPLOAD FILE. When you are ready to submit your comments, click on the tab labeled SUBMIT. Your comment is then submitted to the docket; and you will receive a tracking number.

• Fax: 1-202-493-2251.

• Mail: Docket Management Facility: U.S. Department of Transportation, 1200 New Jersey Avenue, SE., West Building, Ground Floor, Room W12-140, Washington, DC 20590-0001.

• Hand Delivery: West Building, Ground Floor, Room W12-140, 1200 New Jersey Avenue, SE., Washington, DC between 9 a.m. and 5 p.m. e.t., Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to http://www.regulations.gov at any time, and in the ENTER KEYWORD OR ID box enter FMCSA-2006-25756 and click on the tab labeled SEARCH.

Privacy Act: Anyone is able to search the electronic form of all comments received into any of our dockets by the name of the individual submitting the comment (or signing the comment, if submitted on behalf of an association, business, labor union, etc.). You may review DOT's complete Privacy Act Statement in the Federal Register published on April 11, 2000 (65 FR 19476) or you may visit http://www.regulations.gov.

Public Participation: The www.regulations.gov Web site is generally available 24 hours each day, 365 days each year. You can get electronic submission and retrieval help and guidelines under the “help” section of the www.regulations.gov Web site and also at the DOT's http://docketsinfo.dot.gov Web site. If you want us to notify you that we received your comments, please include a self-addressed, stamped envelope or postcard or print the acknowledgement page that appears after submitting comments online.

FOR FURTHER INFORMATION CONTACT: Mr. Robert Schultz, FMCSA Driver and Carrier Operations Division, Office of Bus and Truck Standards and Operations, Telephone: 202-366-4325. E-mail: MCPSD@dot.gov.

SUPPLEMENTARY INFORMATION:

Background

Under 49 U.S.C. 31315 and 31136(e), FMCSA may renew an exemption from the CDL requirements of 49 CFR 383.23 for a maximum 2-year period if it finds “such exemption would likely achieve a level of safety that is equivalent to, or greater than, the level that would be achieved absent such exemption.” The procedures for requesting an exemption (including renewals) are prescribed in 49 CFR part 381.

Volvo Application for Exemption Renewal

Volvo applied for the renewal of an exemption from 49 CFR 383.23, the commercial driver licensing requirement for drivers operating commercial motor vehicles (CMVs). A copy of the request for renewal is in the docket identified at the beginning of this notice. Volvo asked for the renewal of exemption for five drivers for an additional period of 2 years. The five drivers are Jonas Gustafsson, Christer Milding, Jonas Nilsson, Bjorn Nyman, and Sten-Ake Sandberg.

FMCSA initially granted this exemption to Volvo for 11 Swedish engineers and technicians on May 12, 2006 (71 FR 27780). Detailed information about the qualifications and experience of each of the 11 drivers, including the 5 drivers who are the subject of this notice, was provided by Volvo in its original application, a copy of which is in the docket referenced above. On February 4, 2008, Volvo's request for renewal of the exemption for 8 of the original 11 exempt individuals was approved for an additional period of 2 years (73 FR 6552). FMCSA has evaluated Volvo's current application for renewal of 5 of the 8 individuals on its merits and decided to grant renewal of this Volvo exemption for an additional 2-year period, i.e. from February 4, 2010, through February 4, 2012.

Volvo is seeking a renewal of this exemption because the drivers it employs are citizens and residents of Sweden, and cannot easily obtain non-resident CDLs, given the small number of States willing to issue such license. Renewal of the exemption will enable the five drivers to operate CMVs in the U.S. and continue to support Volvo's field tests to meet future clean air standards, to test drive prototype vehicles at their test site, and to deliver the vehicles, if necessary. It is estimated that each driver will drive approximately 2,500 miles per year on U.S. roads. Each of the 5 drivers is an experienced CMV operator holding a valid Swedish-issued CDL. Each driver has received extensive CMV training, and has satisfied strict regulations in Sweden in order to obtain a CDL. Volvo explained in detail in earlier exemption requests in this docket the rigorous training program, and knowledge and skills tests, that applicants for a Swedish CDL must undergo. Volvo also stated in prior exemption requests that it believes that the knowledge and skills tests and training program ensure the exemption provides a level of safety that is equivalent to, or greater than, the level of safety obtained by complying with the U.S. requirement for a CDL.

Method To Ensure an Equivalent or Greater Level of Safety

FMCSA has previously determined the process for obtaining a Swedish CDL is comparable to, or as effective as, the Federal requirements of Part 383, and adequately assesses the driver's ability to operate CMVs in the U.S. In the past 2 years, FMCSA has published several notices of similar Volvo exemption requests; the most recent Agency notice of final disposition was published on May 5, 2009, granting an exemption to seven Volvo drivers for two years (74 FR 20778).

Request for Comments

In accordance with 49 U.S.C. 31315(b)(4) and 31136(e), FMCSA requests public comment on the renewal of Volvo's exemption from the requirements of 49 CFR 383.23 for these five individuals. The Agency requests that interested parties with specific data concerning the safety records of the five drivers listed in this notice submit comments by July 14, 2010. FMCSA will review all comments received by this date and determine whether renewal of the exemption is consistent with the requirements of 49 U.S.C. 31315 and 31136(e).

FMCSA believes the requirements for renewal of an exemption under 49 U.S.C. 31315 and 31136(e) can be satisfied by initially granting the renewal and then requesting and subsequently evaluating comments submitted by interested parties. As indicated above, on two prior occasions, the Agency has determined that providing exemption for these five Volvo drivers from the CDL requirements of 49 CFR 383.23 does not compromise the level of safety that would exist if the exemption were not granted. Each of the prior FMCSA decisions was based on careful consideration of the comments received, and on the merits of each driver's demonstrated knowledge and skills about the safe operation of CMVs.

Interested parties or organizations possessing information that would show that any or all of these drivers are not currently achieving the requisite statutory level of safety should immediately notify FMCSA. The Agency will evaluate any adverse information submitted and, if safety is being compromised or if the continuation of the exemption is not consistent with 49 U.S.C. 31315(b)(4) and 31136(e), FMCSA will take immediate steps to revoke the exemption of the driver(s) in question.

Issued on: June 4, 2010.
Larry W. Minor,
Associate Administrator for Policy and Program Development.

[FR Doc. 2010-14264 Filed 6-11-10; 8:45 am]

BILLING CODE 4910-EX-P